DEPARTMENT OF HOMELAND SECURITY

Transportation Security Administration

Extension of Agency Information Collection Activity Under OMB Review: Airport Security

AGENCY: Transportation Security Administration, DHS.

ACTION: 30-day notice.

SUMMARY: This notice announces that the Transportation Security Administration (TSA) has forwarded the Information Collection Request (ICR), Office of Management and Budget (OMB) control number 1652-0002, abstracted below to OMB for review and approval of a revision of the currently approved collection under the Paperwork Reduction Act (PRA). TSA is combining two previously-approved ICRs (1652-0002 and 1652-0006, Employment Standards) into this single request to simplify TSA collections, increase transparency, and reduce duplication.¹ The ICR describes the nature of the information collection and its expected burden. TSA published a Federal Register notice, with a 60-day comment period soliciting comments, of the following collection of information on September 1, 2015, 80 FR 52778. The collection involves implementing certain provisions of the Aviation and Transportation Security Act and 49 U.S.C. chapter 449 that relate to providing for the safety and security of persons and property on an aircraft operating in air transportation or intrastate air transportation against an act of criminal violence, aircraft piracy, and the introduction of an unauthorized weapon, explosive, or incendiary onto an aircraft.

¹ After the publication of the 60 day notice, TSA decided to include in OMB control number 1652-0002, Airport Security, 49 CFR part 1542, the recordkeeping requirements under OMB Control Number 1652-0006 Employment Standards, which apply to 49 CFR part 1542. This would reduce duplication and combine information collected under the same statute, 49 CFR part 1542. Upon OMB approval of this revision, TSA intends to discontinue OMB Control Number 1652-0006 Employment Standards.

DATES: Send your comments by January 19, 2016. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Christina A. Walsh, TSA PRA Officer, Office of Information Technology (OIT), TSA-11, Transportation Security Administration, 601 South 12th Street, Arlington, VA 20598-6011; telephone (571) 227-2062; email TSAPRA@tsa.dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection

Title: Airport Security, 49 CFR part 1542.

Type of Request: Revision of a currently approved collection.

OMB Control Number: 1652-0002.

Forms(s): NA.

Affected Public: Airport operators regulated under 49 CFR part 1542.

Abstract: TSA is seeking to revise its OMB control number 1652-0002, Airport Security, 49 CFR part 1542 to include the recordkeeping requirements under OMB control number 1652-0006, Employment Standards. The information collection is used to determine compliance with 49 CFR part 1542 and to ensure passenger safety and security by verifying airport operator compliance with security procedures. The following information collections and other recordkeeping requirements with which respondent airport operators must comply also fall under this OMB control number: (1) Development of an Airport Security Program (ASP), submission to TSA, and ASP implementation; (2) as applicable, development of ASP amendments, submission to TSA, and implementation; (3) collection of data necessary to complete a criminal history records check (CHRC) for those individuals with unescorted access to a Security Identification Display Area (SIDA); (4) submission to TSA of identifying information about individuals to whom the airport operator has issued identification media, such as name, address, and country of birth, in order for TSA to conduct a Security Threat Assessment (STA); (5) recordkeeping requirements associated with records required for compliance with the regulation, and for compliance with Security Directives (SDs); and (6) watch list matching of individuals subject to TSA's regulatory requirements against government watch lists.

This information collection is mandatory for airport operators. As part of their security programs, affected airport operators are required to maintain and update, as necessary, records of compliance with the security program provisions set forth in 49 CFR part 1542. This regulation also requires affected airport operators to make their security programs and associated records available for inspection and copying by TSA to verify compliance with transportation security regulations.

Number of Respondents: 438.

Estimated Annual Burden Hours: An estimated 1,657,102 hours annually.

Dated: December 9, 2015.
Christina A. Walsh,
TSA Paperwork Reduction Act Officer, Office of Information Technology.

[FR Doc. 2015-31913 Filed 12-17-15; 8:45 am]

BILLING CODE 9110-05-P